ENVIRONMENTAL PROTECTION AGENCY

[FRL-6968-8]

New York State Prohibition on Marine Discharges of Vessel Sewage; Receipt of Petition and Tentative Determination

Notice is hereby given that a petition was received from the State of New York on November 3, 2000 requesting a determination by the Regional Administrator, Environmental Protection Agency (EPA), pursuant to section 312(f) of Public Law 92-500, as amended by Public Law 95-217 and Public Law 100-4 (the Clean Water Act), that adequate facilities for the safe and sanitary removal and treatment of sewage from all vessels are reasonably available for the waters of the Port Jefferson Harbor Complex, County of Suffolk, State of New York. The Harbor complex consists of several waterbodies, including Port Jefferson Harbor, Setauket Harbor, Little Bay, the Narrows and Conscience Bay. The boundary line for the proposed No Discharge Area shall extend from the easternmost point at Old Field Beach northerly to the westernmost point at White Beach.

This petition was made by the New York State Department of Environmental Conservation (NYSDEC) in cooperation with the Town of Brookhaven. Upon receipt of an affirmative determination in response to this petition, NYSDEC would completely prohibit the discharge of sewage, whether treated or not, from any vessel in the Port Jefferson Harbor Complex in accordance with section 312(f)(3) of the Clean Water Act and 40 CFR 140.4(a).

The Port Jefferson Harbor Complex is located on the north shore of Long Island with approximately 64 miles of tidal shoreline contiguous to Long Island Sound. Port Jefferson's marine waters are comprised of approximately 2,000 acres of harbors, bays and tidal wetlands. The Harbor complex is a major producer of hard clams, soft clams and oysters in New York State. The Harbor complex is used extensively by recreational boaters. Seasonal and transient mooring areas, as well as private and public marinas and boat ramps, are located in the area.

Information submitted by the State of New York and the Town of Brookhaven indicate that there are two existing pumpout facilities and two pumpout boats available to service vessels which use the Port Jefferson Harbor Complex. The Town of Brookhaven operates a fixed pumpout station at the Port Jefferson Marina. The pumpout is available 24 hours a day beginning May 1 through October 31 and is self-service. No fee is charged for the use of the pumpout. Water Depth is 10-feet at mean low water making it accessible to all recreational boats. The Town of Brookhaven operates a mobile pumpout vessel which is dedicated to the Harbor complex from mid-May through mid-September. The hours of operations are Saturdays from 10 am to 5 pm, Sundays from 8 am to 5 pm and holidays from 8 am to 5 pm. The pumpout vessel is also available for pumpouts on Fridays and Mondays by appointment. No fee is charged for the service. The Town has a second pumpout vessel that during periods of heavy demand also services Port Jefferson Harbor. Danfords Marina located on East Broadway, Port Jefferson, operates a pumpout. The pumpout is available during normal business hours from May through October. A $10.00 fee is charged for the use of the pumpout. Water depth is 6 feet at mean low water.

Vessel waste generated from the pumpout facilities located at the Town of Brookhaven's Port Jefferson Marina and their pumpout vessel, and at the Danfords Marina is hauled by privately operated waste haulers. All hauled waste from the pumpout facilities is discharged into and treated at the Suffolk County sewage treatment plant at Bergen Point located in Babylon.

There are five pumpouts located in harbors adjacent to the Port Jefferson Harbor Complex. Two pumpouts are located in Stony Brook Harbor. One pumpout is located in the Nisseqouque River while two more are located in Mt. Sinai Harbor.

According to the State's petition, the maximum daily vessel population for the waters of Port Jefferson Harbor Complex is approximately 900 vessels which are docked or moored. An inventory was developed including the number of recreational, commercial and estimated transient vessels that occupy the harbor bay complex. The ratio of boats to pumpout facilities has been based on the total number of vessels which could be expected. With two shore-side pumpout facilities and one pumpout vessel available to boaters, the ratio of docked or moored boats (including transients) is approximately 300 vessels per pumpout. Standard guidelines refer to acceptable ratios failing in the range of 300 to 600 vessels per pumpout. If the EPA calculation is employed (as listed in the guidance manual entitled, “Protecting Coastal Waters from Vessel and Marina Discharges: A Guide for State and Local Officials—April 1994), it estimates that two pumpouts are needed to provide adequate facilities.

Several commercial vessel operators are active in and around the harbor. These include the Bridgeport/Port Jefferson Ferry, Miller Marine, Barker Marine, Buchanan Marine, Ltd., Martha Jefferson Paddlewheel Cruises, Port Jefferson Ace and Prowler Recreational/Charter Fishing, and Osprey Recreational/Charter Fishing. These businesses were contacted by the Town of Brookhaven and asked to provide information regarding their methods for treating their vessel sewage. Most of the operators contacted use holding tanks to retain their sewage. The operators that currently use flow-through systems have made commitments to retrofit and comply with the No Discharge Area when finalized.

The EPA hereby makes a tentative affirmative determination that adequate facilities for the safe and sanitary removal and treatment of sewage from all vessels are reasonably available for the Port Jefferson Harbor Complex in the County of Suffolk, New York. A final determination on this matter will be made following the 30-day period for public comment and will result in a New York State prohibition of any sewage discharges from vessels in Port Jefferson Harbor Complex.

Comments and views regarding this petition and EPA's tentative determination may be filed on or before May 29, 2001. Comments or requests for information or copies of the applicant's petition should be addressed to Walter E. Andrews, U.S. Environmental Protection Agency, Region II, Water Programs Branch, 290 Broadway, 24th Floor, New York, New York, 10007-1866. Telephone: (212) 637-3880.

Dated: April 6, 2001.
Kathleen C. Callahan,
Acting Regional Administrator, Region II.

[FR Doc. 01-10434 Filed 4-25-01; 8:45 am]

BILLING CODE 6560-50-P